DEPARTMENT OF LABOR

Employment and Training Administration

Agency Information Collection Activities; Comment Request; Fidelity Bonding Issuance

ACTION: Notice.

SUMMARY: The Department of Labor's (DOL) Employment and Training Administration (ETA) is soliciting comments concerning a proposed revision for the authority to conduct the information collection request (ICR) titled, “Fidelity Bonding Issuance.” This comment request is part of continuing Departmental efforts to reduce paperwork and respondent burden in accordance with the Paperwork Reduction Act of 1995 (PRA).

DATES: Consideration will be given to all written comments received by August 19, 2025.

ADDRESSES: A copy of this ICR with applicable supporting documentation, including a description of the likely respondents, proposed frequency of response, and estimated total burden, may be obtained free of charge by contacting Mallery V. Johnson by telephone at 202-693-3497 (this is not a toll-free number). For persons with a hearing or speech disability who need assistance to use the telephone system, please dial 711 to access telecommunications relay services.

Submit written comments about, or requests for a copy of, this ICR by mail or courier to the U.S. Department of Labor, Employment and Training Administration, Reentry Employment Opportunities; by email: JohnsonMallery@dol.gov.

FOR FURTHER INFORMATION CONTACT: Mallery V. Johnson by telephone at 202-693-3497 (this is not a toll-free number) or by email at Johnson.Mallery@dol.gov.

SUPPLEMENTARY INFORMATION: DOL, as part of continuing efforts to reduce paperwork and respondent burden, conducts a pre-clearance consultation program to provide the general public and Federal agencies an opportunity to comment on proposed and/or continuing collections of information before submitting them to the Office of Management and Budget (OMB) for final approval. This program helps to ensure requested data can be provided in the desired format, reporting burden (time and financial resources) is minimized, collection instruments are clearly understood, and the impact of collection requirements can be properly assessed.

The Fidelity Bonding program protects employers who hire individuals with criminal records and other job applicants from theft, forgery, or embezzlement by the employee. Although the bonds have mainly been used for hires of individuals with criminal records, any job applicant is eligible for bonding services, including recovering substance abusers (alcohol or drugs) and persons having poor financial credit, youth and adults who lack a work history, individuals dishonorably discharged from the military, and others. The Fidelity Bonds Program served 1,450 individuals in 2024. The large amounts of responses, respondents and the burden have decreased since the last approval due to the Federal Bonding Demonstration Grants that ended in FY2024. Under this program, states provide fidelity bonds to employers hiring individuals with criminal records and any at-risk applicant. To put the bonding agreement into effect, the Fidelity Bonding Issuance Form will identify the name and address of the insured employer, the name and address of the individual being hired, the effective date of the bond, and the amount of coverage. The form also identifies the occupation, hourly wage, and hours per week of the job being provided; the employer type, industry, and number of employees of the firm; and the sex, race, and ethnicity of the individual being hired. This information is necessary to provide the Department and the public with an understanding of the types of jobs in which individuals are placed. This program is authorized under section 169 of Title 1 of the Workforce Innovation and Opportunity Act (WIOA). Section 185 of the WIOA broadly addresses reports, recordkeeping, and investigations across programs authorized under Title 1 of WIOA.

This information collection is subject to the PRA. A Federal agency generally cannot conduct or sponsor a collection of information, and the public is generally not required to respond to an information collection, unless it is approved by OMB under the PRA and displays a currently valid OMB Control Number. In addition, notwithstanding any other provisions of law, no person shall generally be subject to penalty for failing to comply with a collection of information that does not display a valid Control Number. See 5 CFR 1320.5(a) and 1320.6.

Interested parties are encouraged to provide comments to the contact shown in the ADDRESSES section. Comments must be written to receive consideration, and they will be summarized and included in the request for OMB approval of the final ICR. In order to help ensure appropriate consideration, comments should mention OMB 1205-0541.

Submitted comments will also be a matter of public record for this ICR and posted on the internet, without redaction. DOL encourages commenters not to include personally identifiable information, confidential business data, or other sensitive statements/information in any comments.

DOL is particularly interested in comments that:

• Evaluate whether the proposed collection of information is necessary for the proper performance of the functions of the Agency, including whether the information will have practical utility;

• Evaluate the accuracy of the Agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, (e.g., permitting electronic submission of responses).

Agency: DOL-ETA.

Type of Review: Revision.

Title of Collection: Fidelity Bonding Issuance.

Form: Fidelity Bonding Issuance Form.

OMB Control Number: 1205-0541.

Affected Public: State Workforce Agencies, local American Job Center staff, private employers.

Estimated Number of Respondents: 1500.

Frequency: Once.

Total Estimated Annual Responses: 4,500.

Estimated Average Time per Response: Varies.

Estimated Total Annual Burden Hours: 405 hours.

Total Estimated Annual Other Cost Burden: $0.

Authority: 44 U.S.C. 3506(c)(2)(A).

Suzan Frazier,
Acting Assistant Secretary for Employment and Training, Labor.

[FR Doc. 2025-11347 Filed 6-18-25; 8:45 am]

BILLING CODE 4510-FN-P